DEPARTMENT OF TRANSPORTATION

Federal Motor Carrier Safety Administration

Notice of Fiscal Year (FY) 2014 Safety Grants and Solicitation for Applications

AGENCY: Federal Motor Carrier Safety Administration (FMCSA), DOT.

ACTION: Notice; announcement of grant opportunities and application due dates.

SUMMARY: FMCSA announces the availability of FY 2014 safety grant opportunities and application due dates. Available grants include: the Motor Carrier Safety Assistance Program (MCSAP) Basic and Incentive grants; MCSAP New Entrant Safety Audit grants; MCSAP High Priority grants; Border Enforcement Grants (BEG); Commercial Driver's License Program Implementation (CDLPI) grants; Commercial Vehicle Information Systems and Networks (CVISN) grants; Safety Data Improvement Program (SaDIP) grants; Performance and Registration Information Systems Management (PRISM) grants; and Commercial Motor Vehicle (CMV) Operator Safety Training grants. These grant opportunities are authorized by the Safe, Accountable, Flexible, Efficient Transportation Equity Act: A Legacy for Users (SAFETEA-LU), as amended by the Moving Ahead for Progress in the 21st Century Act (MAP-21).

DATES: Application deadlines are as follows: MCSAP Basic and Incentive grants—August 1, 2013; Border Enforcement grants—August 12, 2013; MCSAP New Entrant Safety Audit grants—August 26, 2013; MCSAP High Priority grants—September 9, 2013; CDLPI grants—January 13, 2014; CVISN grants—January 13, 2014; SaDIP grants—January 21, 2014; PRISM grants—January 27, 2014; CMV Operator Safety Training grants—February 3, 2014. Final dates will be published on the Federal Web site for discretionary grants, Grants.gov. If additional funding is available, the Agency may consider applications and plans submitted after the final due dates on a case-by-case basis.

FOR FURTHER INFORMATION CONTACT: The FMCSA Grant Management Help Desk at FMCSA_GrantMgmtHelpdesk@dot.gov by telephone at (202) 366-2967, or by mail at FMCSA, 1200 New Jersey Avenue SE., Washington, DC 20590. Office hours are from 9 a.m. to 5 p.m., ET, Monday through Friday, except Federal holidays.

SUPPLEMENTARY INFORMATION:

Background and Purpose

For each grant program, FMCSA will post a Notice of Funding Availability (NOFA) at Grants.gov. The NOFA will provide specific information on: the application process; national program priorities for FY 2014; evaluation criteria; required documents and certifications; grantee matching share; maintenance-of-expenditure requirements, if applicable; and additional information related to the availability of funds. The Agency also provides information on FMCSA grants and application procedures on its Web site at http://www.fmcsa.dot.gov/about/GRANTS/financial-assistance.aspx. General information about these grants appears in the section of this notice titled “Fiscal Year 2014 Safety Grants.”

To ensure timely review and award of all grants, applications must be submitted in accordance with the instructions in the NOFA for the specific grant requested and include all required information and attachments. FMCSA strongly encourages timely, complete applications, and may reject applications that are late, incomplete or lacking required attachments.

Fiscal Year 2014 Safety Grants

MCSAP Basic and Incentive Grants

Sections 4101(a) and 4106 of SAFETEA-LU, [Pub. L. 109-59, 119 Stat. 1144 (August 10, 2005)], as amended by secs. 32601 and 32603(a) of MAP-21 [Pub. L. 112-141, 126 Stat. 405, (July 6, 2012)] authorize FMCSA MCSAP grants. The goal of MCSAP Basic and Incentive grants is to develop and implement programs to improve CMV safety and reduce the number and severity of crashes and hazardous materials incidents involving CMVs through consistent, uniform, and effective CMV safety programs.

The FMCSA will reimburse each recipient no more than 80 percent of eligible costs incurred in carrying out approved projects from the State's Commercial Vehicle Safety Plan (CVSP); the recipient must provide 20 percent in matching funds. The FMCSA Administrator waives the matching funds requirement for the Virgin Islands, American Samoa, Guam, and the Commonwealth of the Northern Mariana Islands. (See 49 CFR 350.305).

Under the Basic and Incentive grant programs, a State lead agency for administering the CVSP, as designated by its Governor, (MCSAP lead agency) is eligible to apply for MCSAP Basic and Incentive grant funding by submitting an application in response to the NOFA. See 49 CFR 350.201, 350.205, and 350.213. In accordance with 49 CFR 350.323, the MCSAP Basic grant funds will be distributed proportionally to each State's lead MCSAP agency using the following four, equally weighted (25 percent) factors:

(1) 1997 road miles (all highways) as defined by the FMCSA;

(2) All vehicle miles traveled (VMT) as defined by the FMCSA;

(3) Population—annual census estimates as issued by the U.S. Census Bureau; and

(4) Special fuel consumption (net after reciprocity adjustment) as defined by the FMCSA.

A State's lead MCSAP agency also may qualify for Incentive Funds if FMCSA determines that the State's CMV safety program has shown improvement in any or all of the following five categories:

(1) Reduction in the number of large truck-involved fatal crashes;

(2) Reduction in the rate of large truck-involved fatal crashes or maintenance of a large truck-involved fatal crash rate that is among the lowest 10 percent of such rates of MCSAP recipients;

(3) Upload of CMV crash reports in accordance with current FMCSA policy guidelines;

(4) Verification of Commercial Driver's Licenses (CDL) during all roadside inspections; or

(5) Upload of CMV inspection data in accordance with current FMCSA policy guidelines.

The FMCSA calculates the amount of Basic and Incentive funding each State is to receive. This information is provided to the States and is made available on the Agency's Web site. The projected FY 2014 distribution is available at http://www.fmcsa.dot.gov/safety-security/safety-initiatives/mcsap/mcsapforms.htm. The amount indicated is based on FY 2013 estimated awards and includes Incentive funding. State distributions for FY 2014 may be impacted by the total amount appropriated in FY 2014 and variations in the factors for both the Basic and Incentive formulae. The MCSAP Basic and Incentive formula grants are awarded based on FMCSA's approval of the State's CVSP. Therefore, the evaluation factors for discretionary grant programs described in the section of this notice titled “Evaluation Factors” are not applicable.

Border Enforcement Grants

Sections 4101(c)(2) and 4110 of SAFETEA-LU, as amended by secs. 32603(c) and 32603(h) of MAP-21, authorize the Border Enforcement Grant (BEG) program. The goal of the program is to increase and enhance inspections of CMVs entering the United States. Additionally, the BEG program funds are utilized to ensure motor carriers operating CMVs entering the U.S. from a foreign country are in compliance with commercial vehicle safety standards and regulations, financial responsibility regulations and registration requirements of the U.S. and to ensure drivers of those vehicles are qualified and properly licensed to operate a CMV.

The FMCSA will reimburse each recipient 100 percent of eligible costs incurred in carrying out approved projects. Eligible applicants include State governments or entities within States that share a land border with Canada or Mexico that can carry out border CMV safety programs and related enforcement activities and projects. FMCSA encourages local government agencies to coordinate their applications with the State lead CMV inspection agency to prevent redundancy. Applications must include a Border Enforcement Plan.

New Entrant Safety Audit Grants

Section 4107(b) of SAFETEA-LU, amended by SAFETEA-LU Technical Corrections Act of 2008 [Pub. L. 110-244, sec. 301(b), 122 Stat. 1572, 1616 (June 6, 2008)], and as amended by sec. 32603(e) of MAP-21, authorizes the New Entrant Safety Audit grant program. The goal of the MCSAP New Entrant Safety Audit grant is to reduce CMV-involved crashes, fatalities, and injuries by reviewing new interstate motor carriers to ensure that they have effective safety management programs. Recipients may use these funds for salaries and related expenses of New Entrant auditors, including training and equipment, and to perform other eligible activities that are directly related to conducting safety audits.

The FMCSA will reimburse each recipient 100 percent of eligible costs incurred in carrying out approved projects. State and local governments are eligible for New Entrant Safety Audit grants.

MCSAP High Priority Grants

Section 4107(a) of SAFETEA-LU, amended by secs. 4101(a) and 4107 of the SAFETEA-LU Technical Corrections Act of 2008, as amended by secs. 32603(a) and 32603(d) of MAP-21, authorizes the MCSAP High Priority grant program. The goals of the MCSAP High Priority grant program are to implement, promote, and maintain national programs to improve CMV safety; increase compliance with CMV safety regulations; increase public awareness about CMV safety; provide education on CMV safety and related issues; and demonstrate new safety-related technologies.

The FMCSA will reimburse each recipient 100 percent of eligible costs incurred in carrying out approved projects related to public education and outreach activities. FMCSA will reimburse each grantee 80 percent of eligible costs incurred in carrying out approved projects related to all other activities; the recipient must provide 20 percent in matching funds for these activities. Eligible applicants are State agencies, local governments, and organizations representing government agencies that use and train qualified officers and employees in coordination with State motor vehicle safety agencies. Participation of local law enforcement agencies is encouraged. When the NOFA is posted on Grants.gov, interested local law enforcement agencies should carefully review it for information about special considerations and application review processes.

Examples of High Priority activities include innovative traffic enforcement projects with particular emphasis on texting and hand-held cell phone prohibitions, work zone enforcement, rural road safety, and innovative traffic enforcement initiatives such as high-visibility traffic enforcement programs to promote safe driving behaviors among car and truck drivers.

CDLPI Grants

Sections 4101(c)(1) and 4124 of SAFETEA-LU, as amended by secs. 32603(c) and 32604 of MAP-21, authorize the CDLPI grant program. The goal of CDLPI grants is to improve highway safety by ensuring that States comply with the Federal regulations that require drivers of large trucks and buses to be qualified to obtain and hold the CDL necessary to operate those vehicles.

The FMCSA will reimburse each recipient 100 percent of eligible costs incurred in carrying out approved projects. Eligible applicants for CDLPI grants include the agency designated by each State as having the primary driver licensing responsibility, including development, implementation, and maintenance of the CDL program. State agencies, local governments, and other entities that can support a State's effort to improve its CDL program, or conduct projects on a national scale to improve the national CDL program, may also apply for projects under the High Priority and Emerging Issues component of this grant. Priority will be given to proposals that help States comply with 49 CFR parts 383 and 384, with specific emphasis on correcting previously identified areas of noncompliance.

CVISN Grants

Sections 4101(c)(4) and 4126 of SAFETEA-LU, as amended by secs. 32603(c) and 32605 of MAP-21, authorize the CVISN grant program. The goal of CVISN grants is to advance the technological capability of Intelligent Transportation System applications for CMV operations, including vehicle, commercial driver, and carrier-specific information systems and networks.

The FMCSA will reimburse each recipient 50 percent of eligible costs incurred in carrying out approved projects; the recipient must provide 50 percent in matching funds for these activities. The agency in each State designated as the primary agency responsible for the development, implementation, and maintenance of the CVISN-related systems is eligible to apply for grant funding.

Section 4126 of SAFETEA-LU establishes two types of CVISN projects: Core and Expanded. To be eligible for funding of Core CVISN deployment project(s), a State must have its most current Core CVISN Program Plan and Top-Level Design approved by FMCSA and the proposed project(s) should be consistent with its approved Core CVISN Program Plan and Top-Level Design. A State without an FMCSA-approved Core CVISN Program Plan and Top-Level Design may apply for funds to create one or to update an existing CVISN Program Plan and Top-Level Design.

A State may also apply for funds to prepare an Expanded CVISN Program Plan and Top-Level Design if FMCSA acknowledged the staff as having completed Core CVISN deployment. In order to be eligible for funding of any Expanded CVISN deployment project(s), a State must have its most current Expanded CVISN Program Plan and Top-Level Design approved by FMCSA and any proposed Expanded CVISN project(s) should be consistent with its Expanded CVISN Program Plan and Top-Level Design. A State without an FMCSA-approved Expanded CVISN Program Plan and Top-Level Design may apply for funds to create one or to update an existing Expanded CVISN Program Plan and Top-Level Design.

The maximum core deployment grant funding that FMCSA may award a State is an aggregate total of $2.5 million in CVISN Core funding across all fiscal years. The maximum expanded deployment grant that FMCSA may award a State in any fiscal year is $1 million. After FMCSA has awarded grants for the Core Deployment of CVISN, FMCSA will then use the remaining CVISN funds for proposals for the Expanded Deployment.

SaDIP Grants

Sections 4101(c)(5) and 4128 of SAFETEA-LU, as amended by sec 32603(c) of MAP-21, authorize Safety Data Improvement Program (SaDIP) grants. The goal of SaDIP grants is to improve the timeliness, efficiency, accuracy, and completeness of State processes and systems used to collect, analyze and report large truck and bus crash and inspection data.

The FMCSA will reimburse each recipient 80 percent of eligible costs incurred in carrying out approved projects; the recipient must provide 20 percent in matching funds for these activities. Eligible applicants are State agencies, including the territories of Puerto Rico, Guam, American Samoa, the Northern Marianas, and the U.S. Virgin Islands, and the District of Columbia. Applicants must certify that they have (1) conducted a comprehensive audit of its CMV safety data system within the preceding two years; (2) developed a plan that identifies and prioritizes its CMV safety data needs and goals; and (3) identified performance-based measures to determine progress toward those goals.

PRISM Grants

Sections 4101(c)(3) and 4109 of SAFETEA-LU, as amended by secs. 32602 and 32603(c) of MAP-21, authorize the PRISM grant program. The goal of the PRISM grant is to assist States in identifying motor carriers responsible for the safety of CMV operations and to monitor the safety fitness of those carriers by linking the vehicle registration process to safety performance monitoring and enforcement.

The FMCSA will reimburse each recipient 100 percent of eligible costs incurred in carrying out approved projects. Eligible applicants include States, U.S. Territories and Commonwealths, and the District of Columbia.

CMV Operator Safety Training Grants

Section 4134 of SAFETEA-LU, as amended by sec. 32603(g) of MAP-21, authorizes the CMV Operator Safety Training grant program. The goal of the CMV Operator Safety Training grant program is to train potential drivers in the safe operation of CMVs.

The FMCSA will reimburse each recipient 80 percent of eligible costs incurred in carrying out approved projects; the recipient must provide 20 percent in matching funds for these activities. Eligible applicants include State and local governments and accredited, post-secondary educational institutions (public or private) such as colleges, universities, vocational-technical schools and truck driver training schools. FMCSA will give priority to those schools that develop a program to assist current or former members of the U.S. Armed Forces (including Guard members and Reservists) and their spouses to receive training to transition to the CMV operation industry and provide job placement assistance after graduation. Secondary to the first National priority, FMCSA may also consider those applicants that demonstrate in the application a capacity to recruit and train individuals and provide job placement assistance after graduation to persons in documented economically-distressed regions of the U.S.

Evaluation Factors

Below are evaluation factors that FMCSA will use to review applications for all FMCSA discretionary grants. Additional factors may be included in each NOFA. These factors are:

(1) Prior Performance (e.g., completion of identified programs and goals per the project plan submitted under previous grants awarded to the applicant), if applicable;

(2) Effective Use of Prior Grants (e.g., timely use of available funds in previous awards), if applicable;

(3) Safety and Cost Effectiveness (e.g., expected impact on safety relative to the investment of grant funds; where appropriate, cost per unit was calculated and compared with national averages to determine effectiveness; in other areas, proposed costs are compared with historical information to confirm reasonableness);

(4) Applicability to Announced Priorities; grant applications that specifically address these issues are given priority consideration;

(5) Ability of the applicant to support the strategies and activities in the proposal for the entire project period of performance;

(6) Use of innovative approaches in executing a project plan to address identified safety issues;

(7) Feasibility of overall program coordination and implementation based upon the project plan; and

(8) Other objective and performance-based criteria that FMCSA deems appropriate, such as consistency with national priorities, overall program balance, and geographic diversity.

Application Due Dates

For the following grant programs, FMCSA will consider funding complete applications or plans submitted by the following dates (any changes to these dates will be indicated in the Grants.Gov NOFA):

MCSAP Basic and Incentive Grants—August 1, 2013.

Border Enforcement Grants—August 12, 2013.

New Entrant Safety Audit Grants—August 26, 2013.

MCSAP High Priority Grants—September 9, 2013.

CDLPI Grants—January 13, 2014.

CVISN Grants—January 13, 2014.

SaDIP Grants—January 21, 2014.

PRISM Grants—January 27, 2014.

CMV Operator Safety Training Grants—February 3, 2014.

Applications submitted after due dates may be considered on a case-by-case basis and are subject to availability of funds.

Issued under the authority delegated in 49 CFR 1.87 on June 14, 2013.
William A. Quade,
Associate Administrator for Enforcement.

[FR Doc. 2013-14896 Filed 6-20-13; 8:45 am]

BILLING CODE 4910-EX-P